DEPARTMENT OF COMMERCE

Foreign-Trade Zones Board

[B-75-2016]

Foreign-Trade Zone (FTZ) 122—Corpus Christi, Texas, Authorization of Production Activity, Voestalpine Texas, LLC (Hot Briquetted Iron By-Products), Portland, Texas

On November 7, 2016, the Port of Corpus Christi Authority, grantee of FTZ 122, submitted a notification of proposed production activity to the FTZ Board on behalf of voestalpine Texas, LLC, within Subzone 122T, in Portland, Texas.

The notification was processed in accordance with the regulations of the FTZ Board (15 CFR part 400), including notice in the Federal Register inviting public comment (81 FR 80634, November 16, 2016). On March 8, 2017, the applicant was notified of the FTZ Board's decision that no further review of the activity is warranted at this time. The production activity described in the notification was authorized, subject to the FTZ Act and the FTZ Board's regulations, including Section 400.14.

Dated: June 8, 2017.
Andrew McGilvray,
Executive Secretary.

[FR Doc. 2017-12415 Filed 6-14-17; 8:45 am]

BILLING CODE 3510-DS-P